DEPARTMENT OF THE TREASURY

Internal Revenue Service

Advisory Group to the Internal Revenue Service Tax Exempt and Government Entities Division (TE/GE); Meeting

AGENCY: Internal Revenue Service (IRS); Tax Exempt and Government Entities Division, Treasury.

ACTION: Notice.

SUMMARY: The Advisory Committee on Tax Exempt and Government Entities (ACT) will hold a public meeting on Wednesday, June 11, 2014.

FOR FURTHER INFORMATION CONTACT: Mark Kirbabas, Acting Designated Federal Officer, TE/GE Communications and Liaison; 1111 Constitution Ave. NW.; SE:T:CL—NCA 679; Washington, DC 20224. Telephone: 202-317-8444 (not a toll-free number). Email address: Mark.J.Kirbabas@irs.gov.

SUPPLEMENTARY INFORMATION: By notice herein given, pursuant to section 10(a)(2) of the Federal Advisory Committee Act, 5 U.S.C. App. (1988), a public meeting of the ACT will be held on Wednesday, June 11, 2014, from 9:30 a.m. to 11:30 a.m., at the Internal Revenue Service; 1111 Constitution Ave. NW.; Room 3313; Washington, DC. Issues to be discussed relate to Employee Plans, Exempt Organizations, and Government Entities. Reports from five ACT subgroups cover the following topics:

• Employee Plans: Analysis and Recommendations Regarding the Pre-Approved and Determination Letter Programs

• Exempt Organizations: Analysis and Recommendations Regarding Unrelated Business Income Tax Compliance of Colleges and Universities

• Federal, State and Local Governments: The Affordable Care Act and Government Employees

• Indian Tribal Governments: IRS Tribal Consultation: A Compliance Audit and Recommendations for Improvement

• Tax-Exempt Bonds: Today's Reality: The Increased Reliance on the “Facts and Circumstances” Test in Analyzing Management Contracts for Private Business Use

Last minute agenda changes may preclude advance notice. Due to limited seating and security requirements, attendees must call Cynthia Phillips Grady to confirm their attendance. Ms. Phillips Grady can be reached at (202) 317-8782. Attendees are encouraged to arrive at least 30 minutes before the meeting begins to allow sufficient time for security clearance. Photo identification must be presented. Please use the main entrance at 1111 Constitution Ave. NW., to enter the building. Should you wish the ACT to consider a written statement, please call (202) 317-8444, or write to: Internal Revenue Service; 1111 Constitution Ave. NW.; SE:T:CL—NCA-679; Washington, DC 20224, or email Mark.J.Kirbabas@irs.gov.

Dated: May 21, 2014.
Mark O'Donnell,
Director, Communications and Liaison, Tax Exempt and Government Entities Division, Internal Revenue Service.

[FR Doc. 2014-12340 Filed 5-27-14; 8:45 am]

BILLING CODE 4830-01-P